NUCLEAR REGULATORY COMMISSION

[Docket No. IA-14-025-EA; ASLBP No. 14-932-02-EA-BD01]

James Chaisson; Notice of Atomic Safety and Licensing Board Reconstitution

Pursuant to 10 CFR 2.313(c) and 2.321(b), the Atomic Safety and Licensing Board in the above-captioned James Chaisson enforcement action proceeding is hereby reconstituted as follows: Administrative Judge G. Paul Bollwerk, III (who was serving as a Licensing Board member in this proceeding) is appointed to serve as Chairman; and Administrative Judge Michael M. Gibson (who was serving as Chairman in this proceeding) is appointed to serve as a Licensing Board member.

All correspondence, documents, and other materials shall continue to be filed in accordance with the NRC E-Filing rule. See 10 CFR 2.302 et seq.

Issued at Rockville, Maryland this 19th day of February 2015.
E. Roy Hawkens,
Chief Administrative Judge, Atomic Safety and Licensing Board Panel.

[FR Doc. 2015-03899 Filed 2-24-15; 8:45 am]

BILLING CODE 7590-01-P